DEPARTMENT OF DEFENSE

Department of the Navy

[Docket ID: USN-2010-0003]

Privacy Act of 1974; System of Records

AGENCY: U.S. Marine Corps, DoD.

ACTION: Notice to amend a system of records.

SUMMARY: The U.S. Marine Corps is proposing to amend a system of records notice to its existing inventory of records systems subject to the Privacy Act of 1974, (5 U.S.C. 552a), as amended. The amendment would change the System ID of the Transportation Capacity Planning Tool (TCPT) from “M11240” to “M112401”.

DATES: This proposed action will be effective without further notice on March 11, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The specific change to the record system being amended is set forth below. The proposed amendment is not within the purview of subsection (r) of the Privacy Act of 1974, (5 U.S.C. 552a), as amended, which requires the submission of a new or altered system report.

Dated: February 4, 2010.
Mitchell S. Bryman,
Alternate OSD Federal Register Liaison Officer, Department of Defense.

M11240

System:

Transportation Capacity Planning Tool (TCPT) (October 26, 2009; 74 FR 54979).

Changes to the System ID:

Delete entry and replace with “M112401”.

* * * * *

[FR Doc. 2010-2747 Filed 2-8-10; 8:45 am]

BILLING CODE 5001-06-P